DEPARTMENT OF JUSTICE

Lodging of Consent Decree Pursuant to the Comprehensive Environmental Response, Compensation and Liability Act

In accordance with 28 CFR 50.7 and Section 122 of the Comprehensive Response, Compensation and Liability Act (“CERCLA”), 42 U.S.C. 9622, the Department of Justice gives notice that a proposed consent decree in United States v. American Chemical Service, Inc., et al., No. 2:00CV438 (N.D. Indiana), and State of Indiana v. American Chemical Service, Inc., et al., No. 2:00CV437 (N.D. Indiana), was lodged with the United States District Court for the Northern District of Indiana on July 14, 2000, pertaining to the implementation of the United States Environmental Protection Agency's selected remedial action for the American Chemical Service Superfund Site (“ACS Site”), Griffith, Lake County, Indiana. The proposed consent decree would resolve the United States' and the State of Indiana's civil claims against the 39 defendants named in this action, including the two owners/operators.

Under the proposed Consent Decree, the thirty-nine PRPs will undertake the remedial action for the ACS Site at an estimated cost of $45 million. Approximately $24.5 million of the funds in the ACS Special Account will be disbursed to the Settling Defendants under a specific schedule, as reimbursement for such construction and operation and maintenance costs as are approved by EPA. EPA will reserve $3.8 million from the Special Account for EPA's discretionary use for unforeseen response actions at the Site until 5 years after the remedial construction is complete. At that point, any funds remaining from the $3.8 million will be split equally with the PRP group, with the group's share being disbursed over time as reimbursement for EPA-approved operation and maintenance costs for the Site. EPA also will retain $2.275 million in the ACS Special Account for its future oversight costs for the Site, and $200,000 for the State of Indiana's future oversight costs for the Site. The Settling Defendants must pay any EPA or State oversight costs that exceed those amounts, until the entire remedy is certified as complete (i.e., in approximately 30 years). If any amounts remain in the Special Account after the payments described above have been completed, the balance will be transferred to the Superfund.

The Department of Justice will receive, for a period of thirty (30) days from the date of this publication, comments relating to the proposed consent decree. Comments should be addressed to the Assistant Attorney General, Environment and Natural Resource Division, United States Department of Justice, Washington, DC 20530, and should refer to United States v. American Chemical Service, Inc., No. 2:00CV438 (N.D. Ind.), and DOJ Reference No. 90-11-3-1094/2.

The proposed consent decree may be examined at: (1) The Office of the United States Attorney for the Northern District of Indiana, 1001 Main Street, Ste. A, Dyer, Indiana 46311-1234, (219-322-8576); and (2) the United States Environmental Protection Agency (Region 5), 77 West Jackson Boulevard, Chicago, Illinois 60604-3590, (contact Michael McClary (312-886-7163). A copy of the proposed consent decree may be obtained by mail from the Consent Decree Library, P.O. Box 7611, Washington, DC 20044. In requesting a copy, please refer to the referenced case and DOJ Reference Number and enclose a check in the amount of $37.00 for the consent decree only (148 pages at 25 cents per page reproduction costs), or $128.00 for the consent decree and all appendices (512 pages), made payable to the Consent Decree Library.

Joel M. Gross,
Chief, Environmental Enforcement Section, Environment and Natural Resources Division.

[FR Doc. 00-20297 Filed 8-9-00; 8:45 am]

BILLING CODE 4410-15-M